POSTAL SERVICE BOARD OF GOVERNORS

Sunshine Act Meeting

Board Votes To Close May 1, 2001, Meeting

At its meeting on April 13, 2001, the Board of Governors of the United States Postal Service voted unanimously to close to public observation its meeting scheduled for May 1, 2001, in Washington, DC via teleconference.

MATTERS TO BE CONSIDERED: 1. Postal Rate Commission Opinion and Recommended Decision on Further Reconsideration in Docket No. R2000-1, Omnibus Rate Case.

2. Strategic Planning/Postal Reform.

3. Personnel Matters.

PERSONS EXPECTED TO ATTEND: Governors Ballard, Daniels, del Junco, Dyhrkopp, Fineman, Kessler, McWherter, Rider and Walsh; Postmaster General Henderson, Deputy Postmaster General Nolan, Secretary to the Board Hunter, and General Counsel Gibbons.

GENERAL COUNSEL CERTIFICATION: The General Counsel of the United States Postal Service has certified that the meeting was properly closed under the Government in the Sunshine Act.

CONTACT PERSON FOR MORE INFORMATION: Requests for information about the meeting should be addressed to the Secretary of the Board, David G. Hunter, at (202) 268-4800.

David G. Hunter,
Secretary.

[FR Doc. 01-10266 Filed 4-20-01; 2:15 pm]

BILLING CODE 7710-12-M